DEPARTMENT OF COMMERCE

National Oceanic and Atmospheric Administration

50 CFR Part 679

[Docket No. 101126521-0640-02]

RIN 0648-XZ90

Fisheries of the Exclusive Economic Zone Off Alaska; Bering Sea and Aleutian Islands; Final 2011 and 2012 Harvest Specifications for Groundfish; Correction

AGENCY: National Marine Fisheries Service (NMFS), National Oceanic and Atmospheric Administration (NOAA), Commerce.

ACTION: Final rule; closures; correction.

SUMMARY: The National Marine Fisheries Service (NMFS) is correcting a final rule that published on March 1, 2011, implementing the final 2011 and 2012 harvest specifications and prohibited species catch allowances for the groundfish fishery of the Bering Sea and Aleutian Islands Management Area (BSAI). Two tables within the document contained errors.

DATES: Effective from 1200 hrs, Alaska local time (A.l.t.), March 1, 2011, through 2400 hrs, A.l.t., December 31, 2012.

FOR FURTHER INFORMATION CONTACT: Steve Whitney, 907-586-7269.

SUPPLEMENTARY INFORMATION:

Need for Correction

NMFS published the Final 2011 and 2012 BSAI Harvest Specifications in the Federal Register on Tuesday, March 1, 2011 (76 FR 11139). Tables providing information on 2011 and 2012 Directed Fishing Closures (Table 10) and the Final 2011 and 2012 American Fisheries Act Catcher Vessel BSAI Groundfish Sideboard Limits (Table 13) contained a number of minor errors. In Table 10 on page 11154, NMFS inadvertently listed an incidental catch allowance (ICA) of rock sole at “10,000” metric tons (mt), instead of the correct number of “5,000” mt. In addition, Federal Register formatting issues caused misalignment in Tables 10 and 13 and affected the information contained in those tables. In Table 10 on page 11154, the Federal Register listed the phrase “ICA rock sole” in the “sector” column rather than the “species” column. In Table 13 on page 11156, the Federal Register shifted seven lines upward by one row in the following columns: “Ratio of 1995-1997 TAC”; “2011 initial TAC”; “2011 AFA catcher vessel sideboard limits”; “2012 initial TAC”; and “2012 AFA catcher vessel sideboard limits”. As a result of this error, Table 13 contains incorrect information on Pacific cod sideboard limits for the following gears and seasons: “Jig gear”; “Hook and line Catcher Vessels (CV)” for “Jan 1-Jun 10”; “Pot gear CV” for “Jan 1-Jun 10”; and “Trawl gear CV” for “Jan 20-Apr 1”. Table 13 also contains incorrect information on Atka mackerel sideboard limits for the following areas and seasons: “Eastern AI/BS” for “Jan 1-Jun 10”; “Central AI” for “Jan 1-Jun 10”; and “Central AI” for “Jan 1-Jun 10”. NMFS' corrections to Table 10 and Table 13 are listed below.

The Assistant Administrator for Fisheries, NOAA (AA), finds good cause to waive the requirement to provide prior notice and opportunity for public comment pursuant to the authority set forth at 5 U.S.C. 553(b)(B) as such requirement is impracticable and contrary to the public interest. This correction notice makes only minor changes and does not change operating practices in the fisheries. Corrections should be made as soon as possible to avoid confusion for participants in the fisheries.

The AA also finds good cause to waive the 30-day delay in the effective date of this action under 5 U.S.C. 553(d)(3). This finding is based upon the reasons provided above for waiver of prior notice and opportunity for public comment.y

Correction

On pages 11153, 11154, and 11156, Tables 10 and 13 are corrected to read as follows:

Table 10—2011 and 2012 Directed Fishing Closures ¹
[Groundfish and halibut amounts are in metric tons. Crab amounts are in number of animals]
Area | Sector | Species | 2011 Incidental catch allowance | 2012 Incidental catch allowance
Bogoslof District | All | Pollock | 150 | 150
Aleutian Islands subarea | All | ICA pollock | 1,600 | 1,600
|  | “Other rockfish” | 425 | 425
Eastern Aleutian District/Bering Sea | Non-amendment 80 and BSAI trawl limited access | ICA Atka mackerel | 75 | 75
Eastern Aleutian District/Bering Sea | All | Rougheye rockfish | 234 | 240
Eastern Aleutian District | Non-amendment 80 and BSAI trawl limited access | ICA Pacific ocean perch | 100 | 100
Central Aleutian District | Non-amendment 80 and BSAI trawl limited access | ICA Atka mackerel | 75 | 75
|  | ICA Pacific ocean perch | 75 | 75
Western Aleutian District | Non-amendment 80 and BSAI trawl limited access | ICA Atka mackerel | 40 | 40
|  | ICA Pacific ocean perch | 10 | 10
Central and Western Aleutian Districts | All | Rougheye rockfish | 220 | 225
Bering Sea subarea | All | Pacific ocean perch | 4,854 | 4,854
|  | “Other rockfish” | 500 | 500
|  | ICA pollock | 45,072 | 45,132
Bering Sea and Aleutian Islands | All | Northern rockfish | 4,000 | 4,000
|  | Shortraker rockfish | 393 | 393
|  | Squids | 361 | 361
|  | Skates | 14,025 | 14,025
|  | Sharks | 43 | 43
|  | Octopuses | 128 | 128
|  | Sculpins | 4,420 | 4,420
| Hook-and-line and pot gear | ICA Pacific cod | 500 | 500
| Non-amendment 80 | ICA flathead sole | 5,000 | 5,000
| ICA rock sole | 5,000 | 5,000
| Non-amendment 80 and BSAI trawl limited access | ICA yellowfin sole | 2,000 | 2,000
| BSAI trawl limited access | Rock sole/flathead sole/other flatfish—halibut mortality, red king crab zone 1, C. opilio COBLZ, C. bairdi Zone 1 and 2 | 0 | 0
|  | Turbot/arrowtooth/sablefish—halibut mortality, red king crab zone 1, C. opilio COBLZ, C. bairdi Zone 1 and 2 | 0 | 0
|  | Rockfish—red king crab zone 1 | 0 | 0
¹ Maximum retainable amounts may be found in Table 11 to 50 CFR part 679.

Table 13—Final 2011 and 2012 American Fisheries Act Catcher Vessel Bsai Groundfish Sideboard Limits
[Amounts are in metric tons]
Species | Fishery by area/gear/season | Ratio of 1995-1997 AFA CV catch to 1995-1997 TAC | 2011 initial TAC ¹ | 2011 AFA catcher vessel sideboard limits | 2012 initial TAC ¹ | 2012 AFA catcher vessel sideboard limits
Pacific cod | BSAI
| Jig gear | 0 | n/a | 0 | n/a | 0
| Hook-and-line CV
| Jan 1-Jun 10 | 0.0006 | 207 | 0 | 208 | 0
| Jun 10-Dec 31 | 0.0006 | 199 | 0 | 200 | 0
| Pot gear CV
| Jan 1-Jun 10 | 0.0006 | 8,685 | 5 | 8,749 | 5
| Sept 1-Dec 31 | 0.0006 | 8,345 | 5 | 8,406 | 5
| CV < 60 feet LOA using hook-and-line or pot gear | 0.0006 | 4,055 | 2 | 4,084 | 2
| Trawl gear CV
| Jan 20-Apr 1 | 0.8609 | 33,290 | 28,659 | 33,532 | 28,868
| Apr 1-Jun 10 | 0.8609 | 4,949 | 4,261 | 4,985 | 4,292
| Jun 10-Nov 1 | 0.8609 | 6,748 | 5,809 | 6,797 | 5,852
Sablefish | BS trawl gear | 0.0906 | 1,211 | 110 | 1,109 | 100
| AI trawl gear | 0.0645 | 404 | 26 | 370 | 24
Atka mackerel | Eastern AI/BS
| Jan 1-Jun 10 | 0.0032 | 17,994 | 58 | 16,431 | 53
| Jun 10-Nov 1 | 0.0032 | 17,994 | 58 | 16,431 | 53
| Central AI
| Jan 1-Jun 10 | 0.0001 | 5,037 | 1 | 4,596 | 0
| Jun 10-Nov 1 | 0.0001 | 5,037 | 1 | 4,596 | 0
| Western AI
| Jan 1-Jun 10 | 0 | n/a | 0 | n/a | 0
| Jun 10-Nov 1 | 0 | n/a | 0 | n/a | 0
Rock sole | BSAI | 0.0341 | 75,905 | 2,588 | 75,905 | 2,588
Greenland turbot | BS | 0.0645 | 2,975 | 192 | 2,975 | 192
| AI | 0.0205 | 1,318 | 27 | 1,233 | 25
Arrowtooth flounder | BSAI | 0.069 | 22,015 | 1,519 | 22,015 | 1,519
Kamchatka flounder | BSAI | 0.069 | 15,045 | 1,038 | 15,045 | 1,038
Alaska plaice | BSAI | 0.0441 | 13,600 | 600 | 13,600 | 600
Other flatfish | BSAI | 0.0441 | 2,550 | 112 | 2,550 | 112
Flathead sole | BS trawl gear | 0.0505 | 37,102 | 1,874 | 37,102 | 1,874
Pacific ocean perch | BS | 0.1 | 4,854 | 485 | 4,854 | 485
| Eastern AI | 0.0077 | 5,054 | 39 | 5,054 | 39
| Central AI | 0.0025 | 4,429 | 11 | 4,429 | 11
| Western AI | 0 | n/a | 0 | n/a | 0
Northern rockfish | BSAI | 0.0084 | 4,000 | 34 | 4,000 | 34
Shortraker rockfish | BSAI | 0.0037 | 393 | 1 | 393 | 1
Rougheye rockfish | EBS/EAI | 0.0037 | 234 | 1 | 240 | 1
| CAI/WAI | 0.0037 | 220 | 1 | 225 | 1
Other rockfish | BS | 0.0048 | 500 | 2 | 500 | 2
| AI | 0.0095 | 425 | 4 | 425 | 4
Squids | BSAI | 0.3827 | 361 | 138 | 361 | 138
Skates | BSAI | 0.0541 | 14,025 | 759 | 14,025 | 759
Sharks | BSAI | 0.0541 | 43 | 2 | 43 | 2
Octopuses | BSAI | 0.0541 | 128 | 7 | 128 | 7
Sculpins | BSAI | 0.0541 | 4,420 | 239 | 4,420 | 239
¹ Aleutian Islands Pacific ocean perch, and BSAI Atka mackerel, flathead sole, and rock sole are multiplied by the remainder of the TAC of that species after the subtraction of the CDQ reserve under § 679.20(b)(1)(ii)(C).

Dated: March 23, 2011.
Samuel D. Rauch III,
Deputy Assistant Administrator for Regulatory Programs, National Marine Fisheries Service.

[FR Doc. 2011-7241 Filed 3-25-11; 8:45 am]

BILLING CODE 3510-22-P